DEPARTMENT OF THE INTERIOR

National Park Service

Flight 93 National Memorial Advisory Commission

AGENCY: National Park Service.

ACTION: Notice of September 7, 2005 meeting.

SUMMARY: This notice sets forth the date of the September 7, 2005 meeting of the Flight 93 Advisory Commission.

DATES: The public meeting of the Advisory Commission will be held on September 7, 2005 from 11 a.m. to 12 noon.

Location: The meeting will be held in the Hall of Flags at the U.S. Chamber of Commerce Building, 1615 H Street, NW., Washington, DC 20062-2000.

Agenda: The September 7, 2005 meeting will consist of:

(1) Opening of Meeting and Pledge of Allegiance.

(2) Review and Approval of Minutes from July 25, 2005.

(3) Reports from the Flight 93 Memorial Task Force design Oversight Committee on the Recommendation of a Final Design for the permanent memorial for Flight 93.

(4) Old Business/New Business.

(5) Public Comments.

(6) Closing Remarks.

FOR FURTHER INFORMATION CONTACT: Joanne M. Hanley, Superintendent, Flight 93 National Memorial, 109 West Main Street, Somerset, PA 15501, (814) 443-4557.

SUPPLEMENTARY INFORMATION: The meeting will be open to the public. Any member of the public may file with the Commission a written statement concerning agenda items. The statement should be addressed to the Flight 93 Advisory Commission, 109 West Main Street, Somerset, PA 15501.

Dated: August 4, 2005.
Joanne M. Hanley,
Superintendent, Flight 93 National Memorial.

[FR Doc. 05-16875 Filed 8-24-05; 8:45 am]

BILLING CODE 4310-70-M